DELAWARE RIVER BASIN COMMISSION

Notice of Proposed Rulemaking; Proposed Amendments to the Comprehensive Plan and Water Code Relating to Operation of Lake Wallenpaupack During Drought Watch, Drought Warning and Drought Conditions

AGENCY: Delaware River Basin Commission.

ACTION: Notice of proposed rulemaking.

SUMMARY: The Commission will hold a public hearing to receive comments on proposed amendments to the agency's Comprehensive Plan and Water Code to incorporate a revised drought operating plan for the Lake Wallenpaupack Reservoir and Hydroelectric Facility, located in Pike County, Pennsylvania in the Lackawaxen Watershed. The reservoir and facility currently are owned and operated by PPL Holtwood, LLC (“PPL”). The proposed rulemaking would increase by 12,500 acre-feet or 4.1 billion gallons the amount of Lake Wallenpaupack water available to the Commission for flow augmentation in the main stem Delaware River during drought watch, drought warning and drought conditions, as defined in Section 2.5.3 of the Water Code and Docket D-77-20 CP (Revision 4), dated April 28, 1999. The minimum lake elevation to be maintained during drought conditions—the target elevation for December 1—would decrease from 1170.0 feet to 1167.5 feet. The right to use as much as 4.1 billion gallons of Lake Wallenpaupack water to augment Delaware River flows during drought would be deemed to satisfy up to 10,000 acre-feet of the Commission's consumptive use replacement requirement for the Martins Creek and Lower Mount Bethel generating facilities and future facilities that PPL (or its successors in interest) might construct. That is, under the proposed drought plan, the Commission would release PPL (and its successors) from the requirement that it provide up to 10,000 acre-feet or 3.3 billion gallons of dedicated storage to replace, gallon for gallon, water consumptively used by the entity's existing and future generating facilities when the basin is in drought watch, drought warning or drought operations.

DATES: The public hearing will be held on Wednesday, October 16, 2002 during the Commission's regular business meeting, which will begin at 1:30 p.m. Persons wishing to testify are asked to register in advance with the Commission Secretary by phoning 609-883-9500 ext. 203. Written comments will be accepted through Friday, November 15, 2002. Comments must be received, not merely postmarked, by that date.

ADDRESSES: The public hearing will be held at the Commission's offices, 25 State Police Drive, West Trenton, NJ. Written comments should be addressed to the Commission Secretary at DRBC, P.O. Box 7360, West Trenton, NJ 08628-0360.

FOR FURTHER INFORMATION CONTACT: Please contact Pamela M. Bush, at 609-883-9500 ext. 203, with questions about the proposed rule change or the rulemaking process.

SUPPLEMENTARY INFORMATION: A draft resolution enacting the proposed amendments to Sections 2.5.5 and 2.5.6 of the Water Code and the text of the current Water Code (which is incorporated in the Comprehensive Plan) may be viewed on the Commission's Web site, at http://www.drbc.net.

Dated: October 1, 2002.
Pamela M. Bush,
Commission Secretary.

[FR Doc. 02-25440 Filed 10-7-02; 8:45 am]

BILLING CODE 6360-01-P